NUCLEAR REGULATORY COMMISSION

Advisory Committee on the Medical Uses of Isotopes: Meeting Notice

AGENCY: U.S. Nuclear Regulatory Commission.

ACTION: Notice of meeting.

The U.S. Nuclear Regulatory Commission will convene a meeting of the Advisory Committee on the Medical Uses of Isotopes (ACMUI) on April 26-27, 2017. A sample of agenda items to be discussed during the public session includes: (1) An update on medical-related events; (2) a presentation by Elekta on the physical presence requirements for the Leksell Gamma Knife® Icon™; (3) an update on Category 3 source security and accountability evaluation initiatives; (4) a discussion on the training and experience requirements for authorized individuals for various modalities; (5) an update on the patient release project; (6) a discussion on the reporting of medical events for various modalities; (7) a discussion on patient intervention; and (8) a discussion on medical event reporting and impact on safety culture. The agenda is subject to change. The current agenda and any updates will be available at http://www.nrc.gov/reading-rm/doc-collections/acmui/meetings/2017.html or by emailing Ms. Michelle Smethers at the contact information below.

Purpose: Discuss issues related to title 10 of the Code of Federal Regulations (10 CFR) Part 35 Medical Use of Byproduct Material.

Date and Time for Open Sessions: April 26, 2017, from 8:00 a.m. to 2:30 p.m. and April 27, 2017, from 8:00 a.m. to 3:45 p.m.

Date and Time for Closed Sessions: April 26, 2017, from 7:30 a.m. to 8:00 a.m.

Address for Public Meeting: U.S. Nuclear Regulatory Commission, Two White Flint North Building, Room T2-B3, 11545 Rockville Pike, Rockville, Maryland 20852.

PUBLIC PARTICIPATION: Any member of the public who wishes to participate in the meeting in person or via phone should contact Ms. Smethers using the information below. The meeting will also be webcast live: https://video.nrc.gov/.

CONTACT INFORMATION: Michelle Smethers, email: michelle.smethers@nrc.gov, telephone: (301) 415-0168.

Conduct of the Meeting

Philip O. Alderson, M.D., will chair the meeting. Dr. Alderson will conduct the meeting in a manner that will facilitate the orderly conduct of business. The following procedures apply to public participation in the meeting:

1. Persons who wish to provide a written statement should submit an electronic copy to Ms. Smethers using the contact information listed above. All submittals must be received by April 21, 2017, and must pertain to the topic on the agenda for the meeting.

2. Questions and comments from members of the public will be permitted during the meeting, at the discretion of the Chairman.

3. The draft transcript and meeting summary will be available on ACMUI's Web site http://www.nrc.gov/reading-rm/doc-collections/acmui/meetings/2017.html on or about June 14, 2017.

4. Persons who require special services, such as those for the hearing impaired, should notify Ms. Smethers of their planned attendance.

This meeting will be held in accordance with the Atomic Energy Act of 1954, as amended (primarily Section 161a); the Federal Advisory Committee Act (5 U.S.C. App); and the Commission's regulations in 10 CFR part 7.

Dated at Rockville, Maryland, this 21st day of February, 2017.
For the Nuclear Regulatory Commission.
Andrew L. Bates,
Advisory Committee Management Officer.

[FR Doc. 2017-03733 Filed 2-24-17; 8:45 am]

BILLING CODE 7590-01-P